DEPARTMENT OF HOMELAND SECURITY

Coast Guard

33 CFR Part 100

[CGD07-06-108]

RIN 1625-AA08

Special Local Regulation; Annual Greater Jacksonville Kingfish Tournament; Jacksonville, FL

AGENCY: Coast Guard, DHS.

ACTION: Temporary final rule.

SUMMARY: This rule temporarily suspends the current special local regulations, established for the Annual Greater Jacksonville Kingfish Tournament, Jacksonville, Florida, and adds a temporary final rule for the event due to changes in the tournament this year. This special local regulation is necessary to reflect the changes made to the tournament by the sponsor and to ensure the safety of participating vessels and spectators within the regulated area.

DATES: This rule is effective from July 17, 2006 to July 22, 2006.

ADDRESSES: Documents mentioned in this preamble as being available in the docket are part of docket [CGD 07-06-108] and are available for inspection and copying at Coast Guard Sector Jacksonville Prevention Department, 7820 Arlington Expressway, Suite 400, Jacksonville, Florida, 32211, between 8 a.m. and 4 p.m., Monday through Friday, except Federal holidays.

FOR FURTHER INFORMATION CONTACT: Ensign Kira Peterson at Coast Guard Sector Jacksonville Prevention Department, Florida, tel: (904) 232-2640, ext. 108.

SUPPLEMENTARY INFORMATION:

Regulatory Information

We did not publish a notice of proposed rulemaking (NPRM) for this regulation. Under 5 U.S.C. 553(b)(B), the Coast Guard finds that good cause exists for not publishing a NPRM. The changes to this event were not relayed to the Coast Guard with enough time to allow for public comment. Publishing a NPRM with a comment period would delay the rule's effective date and is contrary to public interest because immediate action is necessary to protect the public and waters of the United States.

For the same reasons, under 5 U.S.C. 553(d)(3), the Coast Guard finds that good cause exists for making this rule effective less than 30 days after publication in the Federal Register. The Coast Guard will issue a broadcast notice to mariners and Coast Guard or local law enforcement vessels will be in the vicinity of this zone to advise mariners of the restriction.

Background and Purpose

The Greater Jacksonville Kingfish Tournament is held annually the second full week of July along the waters of the St. Johns River and the Atlantic Ocean. This regulation will temporarily change the eastern boundary of the regulated area found in paragraph (a) of Section 100.710 from Lighted Buoy 7 (LLNR 7145) in approximate position 30-23.56N, 081-23.04W, and Lighted Buoy 8 (LLNR 7150) in position 30-24.03N, 081-23.01W, to Lighted Buoy 10 (LLNR 2190) at approximate position 30-24.376N, 081-24.998W. Changes are also being made to the effective dates found in paragraph (c) of Section 100.710 as the tournament will now take place the second full week after July 4th. Additionally, a new paragraph (b) is being added to define “Minimum Safe Speed” and existing paragraphs (b) and (c) are being redesignated (c) and (d) accordingly. Coast Guard Sector Jacksonville will issue a Local Notice to Mariners announcing times and dates the regulated area is in effect. Vessels transiting within the regulated area must travel at a Minimum Safe Speed.

Discussion of Rule

This temporary rule is necessary to accommodate the changes by the sponsor to the Annual Greater Jacksonville Kingfish Tournament. The regulated area found in 33 CFR 100.710 paragraph (a) will be revised to reflect the new eastern boundary set at Lighted Buoy 10 (LLNR 2190) at approximate position 30-24.376N, 081-24.998W. The tournament date found in paragraph (c) will reflect the new tournament date set for the second full week after July 4th (July 17 through July 22, 2006). Additionally, a new paragraph (b) will be added to define “Minimum Safe Speed”. “Minimum Safe Speed” is the new speed restriction which will replace the current “No Wake Speed”.

Vessels transiting within the regulated area must travel at a Minimum Safe Speed. The regulated area is needed to control vessel traffic during the event to enhance the safety of participants and transiting vessels.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities because the regulation only requires that vessels operate at a minimum safe speed within the zone, and does not prohibit any vessel or person from entering the zone.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please contact ENS Kira Peterson Sector Jacksonville Prevention Department, at (904) 232-2640, Ext. 108.

Collection of Information

This rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h) of the Instruction from further environmental documentation.

Under figure 2-1, paragraph (34)(h), of the Instruction, an “Environmental Analysis Check List” is not required for this rule.

List of Subjects in 33 CFR Part 100

Marine safety, Navigation (water), Reporting and recordkeeping requirements, Waterways.

For the reasons discussed in the preamble, the Coast Guard proposes to amend 33 CFR part 100 as follows:

PART 100—SAFETY OF LIFE ON NAVIGABLE WATERS

1. The authority citation for part 100 continues to read as follows:

Authority: 33 U.S.C. 1233; Department of Homeland Security Delegation No. 0170.1.

§ 100.710 [Suspended]

2. From July 17 to 22, 2006, suspend § 100.710.

3. From July 17 to 22, 2006, add a new temporary § 100.T07-108 to read as follows:

§ 100.T07-108 Annual Greater Jacksonville Kingfish Tournament; Jacksonville, Florida.

(a) Regulated Area. A regulated area is established for the waters of the St. Johns River lying between an eastern boundary of the St. Johns River Lighted Buoy 10 (LLNR 2190) in approximate position 30-24.376N, 081-24.998W, and the western boundary formed by Lighted Buoy 25 (LLNR 7305) in approximate position 30-23.40N, 081-28.26W, and Short Cut Light 26 (LLNR 7130) in approximate position 30-23.46N, 081-28.16W with the northern and southern boundaries formed by the banks of the St. Johns and extended north from the boundary formed by the St. Johns River and the Intracoastal Waterway, Sisters Creek, to Lighted Buoy 83 (LLNR 38330) on the Intracoastal Waterway.

(b) Definition. The following definition applies to this section:

Minimum Safe Speed means the speed at which a vessel proceeds when it is fully off plane, completely settled in the water and not creating excessive wake. Due to the different speeds at which vessels of different sizes and configurations may travel while in compliance with this definition, no specific speed is assigned to minimum safe speed. In no instance should minimum safe speed be interpreted as a speed less than that required for a particular vessel to maintain steerageway. A vessel is not proceeding at minimum safe speed if it is:

(1) On a plane;

(2) In the process of coming up onto or coming off a plane; or

(3) Creating an excessive wake.

(c) Regulations. Vessels operating in the regulated area must operate at Minimum Safe Speed.

(d) Enforcement Period. This section will be enforced from 5 a.m. to 10 p.m. on July 17 to July 22, 2006.

Dated: June 12, 2006.
D.W. Kunkel,
Rear Admiral, U.S. Coast Guard, Commander, Seventh Coast Guard District.

[FR Doc. E6-10585 Filed 7-13-06; 8:45 am]

BILLING CODE 4910-15-P